DEPARTMENT OF EDUCATION

Notice of Proposed Information Collection Requests

Correction

In notice document E8-19918 beginning on page 50785 in the issue of Thursday, August 28, 2008, make the following correction:

On page 50785, in the third column, under ADDRESSES, in the third line “FAFSA. Comments@ed.gov” should read “FAFSA.Comments@ed.gov”.

[FR Doc. Z8-19918 Filed 9-16-08; 8:45 am]

BILLING CODE 1505-01-D